DEPARTMENT OF HEALTH AND HUMAN SERVICES

Food and Drug Administration

[Docket No. FDA-2018-D-0388]

Hazard Analysis and Risk-Based Preventive Controls for Food for Animals; Draft Guidance for Industry; Availability; Correction

AGENCY: Food and Drug Administration, HHS.

ACTION: Notice of availability; correction.

SUMMARY: The Food and Drug Administration is correcting a notice entitled “Hazard Analysis and Risk-Based Preventive Controls for Food for Animals; Draft Guidance for Industry; Availability” that appeared in the Federal Register of January 23, 2018. The document announced the availability of a draft guidance for industry #245 entitled “Hazard Analysis and Risk-Based Preventive Controls for Food for Animals.” The document was published with the incorrect docket number. This document corrects that error.

FOR FURTHER INFORMATION CONTACT: Lisa Granger, Office of Policy and Planning, Food and Drug Administration, 10903 New Hampshire Ave., Bldg. 32, Rm. 3330, Silver Spring, MD 20993-0002, 301-796-9115.

SUPPLEMENTARY INFORMATION: In the Federal Register of Tuesday, January 23, 2018 (83 FR 3163), in FR Doc. 2018-01126, on page 3163, the following correction is made:

1. On page 3163, in the first column, in the header of the document, the docket number is corrected to read “FDA-2018-D-0388”.

Dated: January 30, 2018.
Leslie Kux,
Associate Commissioner for Policy.

[FR Doc. 2018-02181 Filed 2-2-18; 8:45 am]

BILLING CODE 4164-01-P